DEPARTMENT OF COMMERCE

International Trade Administration

[A-122-601]

Brass Sheet and Strip From Canada: Notice of Recission of Antidumping Duty Administrative Review

AGENCY: Import Administration, International Trade Administration, Department of Commerce.

ACTION: Notice of recission of antidumping duty administrative review.

EFFECTIVE DATE: October 25, 2000.

SUMMARY: On February 28, 2000, the Department of Commerce (the Department) published in the Federal Register (65 FR 10466) a notice announcing the initiation of an administrative review of the antidumping duty order on brass sheet and strip from Canada, covering the period January 1, 1999 through December 31, 1999, and one manufacturer/exporter of the subject merchandise, Wolverine Tube (Canada), Inc. We are now rescinding this review as a result of the petitioners' withdrawal of their request for an administrative review.

FOR FURTHER INFORMATION CONTACT: Alexander Amdur, AD/CVD Enforcement, Group II, Office IV, Import Administration, U.S. Department of Commerce, 14th Street and Constitution Avenue, NW., Washington, DC 20230, telephone: (202) 482-5346.

SUPPLEMENTARY INFORMATION:

The Applicable Statute

Unless otherwise indicated, all citations to the Tariff Act of 1930, as amended (“the Act”), are references to the provisions effective January 1, 1995, the effective date of the Uruguay Round Agreements Act. In addition, unless otherwise indicated, all citations to the Department's regulations are to the regulations at 19 CFR Part 351 (1999).

Background

On January 28, 2000, Olin Corporation, Outokumpu American Brass, Revere Copper Products, Inc., the International Association of Machinists and Aerospace Workers, the United Auto Workers (Local 2367) and the United Steelworkers of America (AFL-CIO/CLC) (collectively, petitioners), in accordance with 19 CFR 351.213(b), requested an administrative review of the antidumping duty order on brass sheet and strip from Canada covering Wolverine Tube (Canada), Inc. On February 17, 2000, in accordance with 19 CFR 351.221(c)(1)(i), we initiated an administrative review of this order for the period January 1, 1999 through December 31, 1999 (65 FR 10466, February 28, 2000). On September 19, 2000, the petitioners withdrew their request for this review. Additionally, on October 2, 2000, Wolverine Tube (Canada), Inc. and Wolverine Ratcliffs Inc. informed the Department that they do not object to the termination of the current administrative review.

Recission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. The petitioners withdrew their request for review after the 90 day period. However, the Department has granted the request to rescind the review because the petitioners were the only party to request the review, and it is otherwise reasonable to rescind the review based on the petitioners' withdrawal of their request.

This determination is issued and published in accordance with section 751 of the Act (19 U.S.C. 1675) and 19 CFR 351.213(d)(4).

Dated: October 18, 2000.
Holly A. Kuga,
Acting Deputy Assistant Secretary, Import Administration.

[FR Doc. 00-27445 Filed 10-24-00; 8:45 am]

BILLING CODE 3510-DS-P